DEPARTMENT OF THE TREASURY

Office of Foreign Assets Control

Sanctions Actions Pursuant to Executive Orders 13660, 13661, 13662, and 13685

AGENCY: Office of Foreign Assets Control, Treasury.

ACTION: Notice.

SUMMARY: The Treasury Department's Office of Foreign Assets Control (OFAC) is publishing the names of 121 persons whose property and interests in property are blocked pursuant to one or more of the following authorities: Executive Order (E.O.) 13660, E.O. 13661, and E.O. 13685, or who are subject to the prohibitions of one or more directives under E.O. 13662.

DATES: OFAC's actions described in this notice were effective on December 22, 2015, as further specified below.

FOR FURTHER INFORMATION CONTACT: Associate Director for Global Targeting, tel.: 202/622-2420, Associate Director for Sanctions Policy and Implementation, tel.: 202/622-2480, Office of Foreign Assets Control, or Chief Counsel (Foreign Assets Control), tel.: 202/622-2410, Office of the General Counsel, Department of the Treasury (not toll free numbers).

SUPPLEMENTARY INFORMATION:

Electronic and Facsimile Availability

The Specially Designated Nationals and Blocked Persons List and additional information concerning OFAC sanctions programs are available on OFAC's Web site (www.treas.gov/ofac). A complete listing of persons determined to be subject to one or more directives under E.O. 13662, as discussed in detail in this Notice, can be found in the Sectoral Sanctions Identifications List at http://www.treasury.gov/resource-center/sanctions/SDN-List/Pages/ssi_list.aspx. Certain general information pertaining to OFAC's sanctions programs is also available via facsimile through a 24-hour fax-on-demand service, tel.: 202/622-0077.

Notice of OFAC Actions

On December 22, 2015, OFAC blocked the property and interests in property of the following eight persons pursuant to E.O. 13660, “Blocking Property of Certain Persons Contributing to the Situation in Ukraine”:

Individuals

1. ZAKHARCHENKO, Vitaliy Yuriyovych; DOB 20 Jan 1963; POB Kostiantynivka, Donetsk Region, Ukraine (individual) [UKRAINE-EO13660] (Linked To: YANUKOVYCH, Viktor Fedorovych).

2. TABACHNYK, Dmytro Volodymyrovych (a.k.a. TABACHNIK, Dmitry; a.k.a. TABACHNYK, Dmytriy); DOB 28 Nov 1963 (individual) [UKRAINE-EO13660].

3. NIKITIN, Vasiliy Aleksandrovich (Cyrillic: НИКИТИН, Василий Александрович) (a.k.a. NIKITIN, Vasily; a.k.a. NIKITIN, Vasyl); DOB 25 Nov 1971 (individual) [UKRAINE-EO13660].

4. DEYNEGO, Vladyslav Nykolayevych (a.k.a. DEYNEGO, Vladislav Nykolayevich); DOB 12 Mar 1964 (individual) [UKRAINE-EO13660].

5. KOZYAKOV, Serhiy (a.k.a. KOZYAKOV, Sergey; a.k.a. KOZYAKOV, Sergey Yurievich); DOB 29 Sep 1982 (individual) [UKRAINE-EO13660].

6. KOFMAN, Aleksandr Igorevich (a.k.a. KOFMAN, Oleksandr); DOB 30 Aug 1977 (individual) [UKRAINE-EO13660].

7. TSYPLAKOV, Sergey Gennadevich (a.k.a. TSYPLAKOV, Gennady); DOB 01 May 1983 (individual) [UKRAINE-EO13660].

8. RODKIN, Andrei Nikolaevich (a.k.a. RODKIN, Andrei (Cyrillic: РОДКИН, Андрей); a.k.a. RODKIN, Andrey); DOB 23 Sep 1976 (individual) [UKRAINE-EO13660].

On December 22, 2015, OFAC blocked the property and interests in property of the following nine persons pursuant to E.O. 13661, “Blocking Property of Additional Persons Contributing to the Situation in Ukraine”:

Individuals

1. CHERNYKH, Tatiana V (a.k.a. CHERNYKH, Tatiana); DOB 25 Sep 1972; nationality Russia; Passport 712491743 (Russia) expires 17 Nov 2020; Foreign Relations Manager at Izhevsky Mekhanichesky Zavod JSC (individual) [UKRAINE-EO13661] (Linked To: IZHEVSKY MEKHANICHESKY ZAVOD JSC).

2. IOFFE, Eduard A (a.k.a. IOFFE, Eduard); DOB 07 Jun 1970; nationality Russia; Passport 713023636 (Russia) expires 20 Jan 2021; Deputy General Director for Commercial Affairs at Kalashnikov Concern and Izhevsky Mekhanichesky Zavod JSC (individual) [UKRAINE-EO13661] (Linked To: KALASHNIKOV CONCERN; Linked To: IZHEVSKY MEKHANICHESKY ZAVOD JSC).

3. KARAMYAN, Vakhtang (a.k.a. KARAMIAN, Vakhtang); DOB 19 Apr 1991; nationality Russia; Passport 727409284 (Russia) expires 28 Mar 2023; Middle East Business Development Director at Kalashnikov Concern (individual) [UKRAINE-EO13661] (Linked To: KALASHNIKOV CONCERN).

4. OLSSON, Sven Anders, Karl X Gustafs Gata 51, Helsingborg 252 40, Sweden; DOB 21943 (individual) [UKRAINE-EO13661]. Sven Olsson has acted or purported to act for or on behalf of, directly or indirectly, and has materially assisted, sponsored, or provided financial, material, or technological support for, goods or services to or in support of, Gennady Timchenko and the Volga Group, persons whose property and interest in proprety are blocked pursuant to Executive Order 13661.

Entities

1. FENTEX PROPERTIES LTD., Tortola, Virgin Islands, British [UKRAINE-EO13661]. Fentex Properties Ltd. is owned by Gennady Timchenko, a person whose property and interests in property are blocked pursuant to Executive Order 13661.

2. LERMA TRADING S.A., Calle 53a Este, Panama [UKRAINE-EO13661]. Lerma Trading S.A. is owned or controlled by Gennady Timchenko, a person whose property and interests in property are blocked pursuant to Executive Order 13661.

3. LTS HOLDING LIMITED (f.k.a. IPP-INTERNATIONAL PETROLEUM PRODUCTS LTD.), Rue du Conseil-General 20, Geneva 1204, Switzerland; Tortola, Virgin Islands, British [UKRAINE-EO13661]. LTS Holding Limited is owned or controlled by or has acted or purported to act for or on behalf of, directly or indirectly, and has materially assisted, sponsored, or provided financial, material, or technological support for, goods or services to or in support of, Gennady Timchenko, a person whose property and interest in proprety are blocked pursuant to Executive Order 13661.

4. MAPLES SA, Boulevard Royal 25/B 2449, Luxembourg [UKRAINE-EO13661]. Maples SA is owned or controlled by or has acted or purported to act for or on behalf of, directly or indirectly, and has materially assisted, sponsored, or provided financial, material, or technological support for, goods or services to or in support of, Gennady Timchenko, a person whose property and interest in proprety are blocked pursuant to Executive Order 13661.

5. WHITE SEAL HOLDINGS LIMITED, 115 Spyrou Kyprianou Avenue, Limassol 3077, Cyprus [UKRAINE-EO13661]. White Seal Holdings Limited has acted or purported to act for or on behalf of, directly or indirectly, and has materially assisted, sponsored, or provided financial, material, or technological support for, goods or services to or in support of, Gennady Timchenko and the Volga Group, persons whose property and interest in proprety are blocked pursuant to Executive Order 13661.

On December 22, 2015, OFAC blocked the property and interests in property of the following twelve persons pursuant to E.O. 13685, “Blocking Property of Certain Persons and Prohibiting Certain Transactions With Respect to the Crimea Region of Ukraine”:

Entities

1. STATE CONCERN NATIONAL PRODUCTION AND AGRICULTURAL ASSOCIATION MASSANDRA (a.k.a. MASSANDRA NATIONAL INDUSTRIAL AGRARIAN ASSOCIATON OF WINE INDUSTRY; a.k.a. MASSANDRA STATE CONCERN, NATIONAL PRODUCTION AND AGRARIAN UNION, OJSC; a.k.a. NACIONALNOYE PROIZ-VODSTVENNO AGRARNOYE OBYEDINENYE MASSANDRA; a.k.a. STATE CONCERN NATIONAL ASSOCIATION OF PRODUCERS MASSANDRA), 6, str. Mira, Massandra, Yalta 98600, Ukraine; 6, Mira str., Massandra, Yalta, Crimea 98650, Ukraine; Mira str, h. 6, Massandra, Yalta, Crimea 98600, Ukraine; 6, Myra st., Massandra, Crimea 98650, Ukraine; Web site http://www.massandra.net.ua/; Email Address impex@massandra.ua; Registration ID 00411890 (Ukraine) [UKRAINE-EO13685].

2. CRIMEAN ENTERPRISE AZOV DISTILLERY PLANT (a.k.a. AZOVSKY LIKEROGORILCHANY ZAVOD, KRYMSKE RESPUBLIKANSKE PIDPRYEMSTVO; a.k.a. AZOVSKY LIKEROVO-DOCHNY ZAVOD; a.k.a. CRIMEAN REPUBLICAN ENTERPRISE AZOV DISTILLERY; a.k.a. CRIMEAN REPUBLICAN ENTERPRISE AZOVSKY LIKEROVODOCHNY ZAVOD; a.k.a. KRYMSKE RESPUBLIKANSKE PIDPRYEMSTVO AZOVSKY LIKEROGORILCHANY ZAVOD), Bud. 40 vul. Zaliznychna, Smt Azovske, Dzhankoisky R-N, Crimea 96178, Ukraine; 40 Railway St., Azov, Dzhankoy District 96178, Ukraine; 40 Zeleznodorozhnaya str., Azov, Jankoysky District 96178, Ukraine; Registration ID 01271681 (Ukraine) [UKRAINE-EO13685].

3. STATE ENTERPRISE UNIVERSAL-AVIA (a.k.a. CRIMEAN STATE AVIATION ENTERPRISE UNIVERSAL-AVIA; a.k.a. GOSUDARSTVENNOE UNITARNOE PREDPRIYATIE RESPUBLIKI KRYM UNIVERSAL; a.k.a. GOSUDARSTVENNOE UNITARNOE PREDPRIYATIE RESPUBLIKI KRYM UNIVERSAL-AVIA; a.k.a. GOSUDARSTVENOYE PREDPRIYATIYE UNIVERSAL-AVIA; a.k.a. UNIVERSAL-AVIA, CRIMEA STATE AVIATION ENTERPRISE; a.k.a. UNIVERSAL-AVIA, GUP RK), 5, Aeroflotskaya Street, Simferopol, Crimea 95024, Ukraine; Registration ID 1159102026742; Tax ID No. 9102159300; Government Gazette Number 00830954 [UKRAINE-EO13685].

4. OTKRYTOE AKTSIONERNOE OBSHCHESTVO VNESHNEEKONOMICHESKOE OBEDINENIE TEKHNOPROMEKSPORT (a.k.a. JOINT STOCK COMPANY FOREIGN ECONOMIC ASSOCIATION TECHNOPROMEXPORT; a.k.a. JOINT STOCK COMPANY FOREIGN ECONOMIC ASSOCIATION TEKHNOPROMEXPORT; a.k.a. JSC TEKHNOPROMEXPORT; a.k.a. JSC VO TEKHNOPROMEXPORT; a.k.a. OJSC TECHNOPROMEXPORT; a.k.a. OPEN JOINT STOCK COMPANY FOREIGN ECONOMIC ASSOCIATION TEKHNOPROMEXPORT; a.k.a. VO TEKHNOPROMEKSPORT, OAO; a.k.a. “JSC TPE”), d. 15 str. 2 ul. Novy Arbat, Moscow 119019, Russia; Email Address inform@tpe.ru; Registration ID 1067746244026 (Russia); Tax ID No. 7705713236 (Russia); Government Gazette Number 02839043 (Russia) [UKRAINE-EO13685].

5. AKTSIONERNOE OBSCHESTVO 'YALTINSKAYA KINODSTUDIYA' (a.k.a. CJSC YALTA-FILM; a.k.a. FILM STUDIO YALTA-FILM; a.k.a. JOINT STOCK COMPANY YALTA FILM STUDIO; a.k.a. JSC YALTA FILM STUDIO; a.k.a. KINOSTUDIYA YALTA-FILM; a.k.a. OAO YALTINSKAYA KINOSTUDIYA; a.k.a. YALTA FILM STUDIO; a.k.a. YALTA FILM STUDIOS), Ulitsa Mukhina, Building 3, Yalta, Crimea 298063, Ukraine; Sevastopolskaya 4, Yalta, Crimea, Ukraine; Registration ID 30993572 [UKRAINE-EO13685].

6. JOINT STOCK COMPANY GENBANK (a.k.a. AKTSIONERNOE OBSHCHESTVO GENBANK (Cyrillic: АКЦИОНЕРНОЕ ОБЩЕСТВО ГЕНБАНК); a.k.a. CLOSED JOINT STOCK COMPANY GENBANK; a.k.a. GENBANK, AO (Cyrillic: ГЕНБАНК, АО); a.k.a. JSC GENBANK), Ozerkovskaya Naberezhnaya 12, Moscow 115184, Russia; Ulitsa Sevastopolskaya 13, Simferopol 295011, Ukraine; SWIFT/BIC GEOORUMM; Web site www.genbank.ru; Email Address info@genbank.ru; Registration ID 1137711000074 (Russia) [UKRAINE-EO13685].

7. JOINT STOCK COMPANY SEVASTOPOLSKY MORSKOY BANK (a.k.a. AKTSIONERNOE OBSHCHESTVO SEVASTOPOLSKIY MORSKOY BANK; a.k.a. AO SEVASTOPOLSKIY MORSKOY BANK; a.k.a. JSC SEVASTOPOLSKY MORSKOY BANK), 18a Brestska Street, Sevastopol, Crimea 99001, Ukraine; 18/A Ulitsa Brestskaya, Sevastopol, Crimea 299001, Ukraine; SWIFT/BIC MORKUAUK; Web site www.morskoybank.com; Email Address root@morskoybank.com; Registration ID 1149204013397 [UKRAINE-EO13685].

8. OPEN JOINT STOCK COMPANY COMMERCIAL BANK VERKHNEVOLZHSKY (a.k.a. COMMERCIAL JOINT-STOCK BANK VERHNEVOLGSKY; a.k.a. OAO KB VERKHNEVOLZHSKIY; a.k.a. OJSC CB VERKHNEVOLZHSKY; a.k.a. OTKRYTOE AKTSIONERNOE OBSHCHESTVO KOMMERCHESKIY BANK VERKHNEVOLZHSKIY; a.k.a. PUBLIC COMMERCIAL JOINT-STOCK BANK VERHNEVOLZHSKY), Ulitsa Bratyev Orlovykh 1a, Rybinsk, Yaroslavskaya Oblast 152903, Russia; Ulitsa Suvorova 39A, Sevastopol, Crimea 299011, Ukraine; Pereulok Pionerskiy 5, Simferopol, Crimea 295011, Ukraine; SWIFT/BIC VECARU21; alt. SWIFT/BIC VVBKRU2Y; Web site www.vvbank.ru; Email Address vbank@yaroslavl.ru; Registration ID 1027600000185 (Russia) [UKRAINE-EO13685].

9. OPEN JOINT STOCK COMPANY KRASNODAR REGIONAL INVESTMENT BANK (a.k.a. OAO KRAYINVESTBANK (Cyrillic: ОАО КРАЙИНВЕСТБАНК); a.k.a. OJSC KRAYINVESTBANK; a.k.a. OTKRYTOE AKTSIONERNOE OBSHCHESTVO KRASNODARSKIY KRAEVOY INVESTITSIONNIY BANK (Cyrillic: ОТКРЫТОЕ АКЦИОНЕРНОЕ ОБЩЕСТВО КРАСНОДАРСКИЙ КРАЕВОЙ ИНВЕСТИЦИОННЫЙ БАНК)), Ulitsa Mira 34, Krasnodar 350063, Russia; Ulitsa Bolshaya Morskaya 23, Sevastopol, Crimea 299011, Ukraine; Ulitsa Dolgorukovskaya/Zhukovskogo/A. Nevskogo 1/1/6, Simferopol, Crimea 295000, Ukraine; SWIFT/BIC KRRIRU22; Web site www.kibank.ru; Email Address mail@kibank.ru; Registration ID 1022300000029 (Russia); All offices worldwide [UKRAINE-EO13685].

10. STATE ENTERPRISE FACTORY OF SPARKLING WINE NOVY SVET (a.k.a. DERZHAVNE PIDPRYEMSTVO ZAVOD SHAMPANSKYKH VYN NOVY SVIT; a.k.a. GOSUDARSTVENOYE PREDPRIYATIYE ZAVOD SHAMPANSKYKH VIN NOVY SVET; a.k.a. NOVY SVET WINERY; a.k.a. NOVY SVET WINERY STATE ENTERPRISE; a.k.a. STATE ENTERPRISE FACTORY OF SPARKLING WINES NEW WORLD; a.k.a. ZAVOD SHAMPANSKYKH VYN NOVY SVIT, DP), 1 Shaliapin Street, Novy Svet Village, Sudak, Crimea 98032, Ukraine; Bud. 1 vul. Shalyapina Smt, Novy Svit, Sudak, Crimea 98032, Ukraine; 1 Shalyapina str. Novy Svet, Sudak 98032, Ukraine; Web site http://nsvet.com.ua/en/contacts; Email Address boss@nsvet.com.ua; Registration ID 00412665 (Ukraine) [UKRAINE-EO13685].

11. STATE ENTERPRISE MAGARACH OF THE NATIONAL INSTITUTE OF WINE (a.k.a. AGROFIRMA MAGARACH NATSIONALNOGO INSTYTUTU VYNOGRADU I VYNA MAGARACH, DP; a.k.a. DERZHAVNE PIDPRYEMSTVO AGROFIRMA MAGARACH NATSIONALNOGO INSTYTUTU VYNOGRADU I VYNA MAGARACH; a.k.a. GOSUDARSTVENOYE PREDPRIYATIYE AGRO-FIRMA MAGARACH NACIONALNOGO INSTITUTA VINOGRADA I VINA MAGARACH; a.k.a. MAGARACH AGRICULTURAL COMPANY OF NATIONAL INSTITUTE OF WINE AND GRAPES MAGARACH; a.k.a. STATE ENTERPRISE AGRICULTURAL COMPANY MAGARACH NATIONAL INSTITUTE OF VINE AND WINE MAGARACH), Bud. 9 vul. Chapaeva, S.Viline, Bakhchysaraisky R-N, Crimea 98433, Ukraine; 9 Chapayeva str., Vilino, Bakhchisaray Region, Crimea 98433, Ukraine; 9 Chapayeva str., Vilino, Bakhchisarayski district 98433, Ukraine; 9, Chapaeva Str., Vilino, Bakhchisaray Region, Crimea 98433, Ukraine; Web site http://magarach-institut.ru/; Email Address magar@ukr.net; Registration ID 11231070006000476 (Ukraine); Government Gazette Number 31332064 (Ukraine) [UKRAINE-EO13685].

12. RESORT NIZHNYAYA OREANDA (f.k.a. FEDERALNOE GOSUDARSTVENNOE BYUDZHETNOE UCHREZHDENIE SANATORI NIZHNYAYA OREANDA UPRAVLENIYA; a.k.a. FEDERALNOE GOSUDARSTVENNOE BYUDZHETNOE UCHREZHDENIE SANATORI NIZHNYAYA OREANDA UPRAVLENIYA DELAMI PREZIDENTA ROSSISKOI FE; a.k.a. FGBU SANATORI NIZHNYAYA OREANDA; a.k.a. SANATORIUM NIZHNYAYA OREANDA), Pgt Oreanda, Dom 12, Yalta, Crimea 298658, Ukraine; Resort Nizhnyaya Oreanda, Oreanda, Yalta 08655, Crimea; Oreanda-12, Yalta 298658, Crimea; Web site http://www.oreanda.biz; Email Address info@oreanda.biz; Registration ID 1149102054221; Tax ID No. 9103006321; Government Gazette Number 00705605 [UKRAINE-EO13685].

In addition, on December 22, 2015, OFAC identified the following five persons as entities in which Stroygazmontazh, Transoil, Avia Group, LLC, or SMP Bank, persons whose property and interests in property are blocked pursuant to E.O. 13661, owns, directly or indirectly, a 50 percent or greater interest:

Entities

1. OAO VOLGOGRADNEFTEMASH (f.k.a. DOCHERNEE AKTSIONERNOE OBSHCHESTVO OTKRYTOGO TIPA VOLGOGRADNEFTEMASH ROSSIISKOGO AKTSIONERNOGO OBSHCHESTVA GAZPROM; a.k.a. JSC VOLGOGRADNEFTEMASH; a.k.a. OTKRYTOE AKTSIONERNOE OBSHCHESTVO VOLGOGRADNEFTEMASH (Cyrillic: Ocy;ТКРЫТОЕ АКЦИОНЕРНОЕ ОБЩЕСТВО ВОЛГОГРАДНЕФТЕМАШ)), 45 Ulitsa Elektrolesovskaya, Volgograd, Volgogradskaya Oblast 400011, Russia [UKRAINE-EO13661] (Linked To: STROYGAZMONTAZH).

2. TRANSSERVICE LLC (a.k.a. LIMITED LIABILITY COMPANY TRANSSERVIS; a.k.a. OBSCHESTVO S OGRANICHENNOI OTVETSTVENNOSTYU TRANSSERVIS (Cyrillic: OБЩЕСТВО С OГРАНИЧЕННОЙ OТВЕТСТВЕННОСТЬЮ ТРАНССЕРВИС); a.k.a. OOO TRANSSERVIS (Cyrillic: ООО ТРАНССЕРВИС)), 35 Prospekt Gubkina, Omsk, Omskaya Oblast 664035, Russia [UKRAINE-EO13661] (Linked To: TRANSOIL).

3. AVIA GROUP TERMINAL LIMITED LIABILITY COMPANY (a.k.a. AG TERMINAL OOO; a.k.a. LLC AG TERMINAL; a.k.a. OBSHCHESTVO S OGRANICHENNOI OTVETSTVENNOSTYU AVIA GRUPP TERMINAL (Cyrillic: ОБЩЕСТВО С ОГРАНИЧЕННОЙ ОТВЕТСТВЕННОСТЬЮ АВИА ГРУПП ТЕРМИНАЛ)), Ter. Aeroport Sheremetyevo, Khimki, Moscovskaya Oblast 141400, Russia [UKRAINE-EO13661] (Linked To: AVIA GROUP LLC).

4. INRESBANK OOO (a.k.a. INRESBANK LTD; a.k.a. INVESTITSIONNY RESPUBLIKANSKI BANK OBSHCHESTVO S OGRANICHENNOI OTVETSTVENNOSTYU; a.k.a. INVESTMENT REPUBLIC BANK LLC; f.k.a. OOO KBK BANK), Ulitsa Bolshaya Semenovskaya, D. 32, Str. 1, Moscow 107023, Russia [UKRAINE-EO13661] (Linked To: SMP BANK).

5. PAO MOSOBLBANK (a.k.a. AKB MOSOBLBANK OAO; a.k.a. AKTSIONERNY KOMMERCHESKI BANK MOSKOVSKI OBLASTNOI BANK OTKRYTOE AKTSIONERNOE OBSHCHESTVO; a.k.a. PUBLIC JOINT STOCK COMPANY MOSCOW REGIONAL BANK), Ulitsa Semenovskaya B, D. 32, Str. 1, Moscow 107023, Russia [UKRAINE-EO13661] (Linked To: SMP BANK).

As entities owned, directly or indirectly, 50 percent or more by Stroygazmontazh, Transoil, Avia Group, LLC, or SMP Bank, these entities are subject to the same prohibitions as Stroygazmontazh, Transoil, Avia Group, LLC, or SMP Bank.

On December 22, 2015, OFAC identified as subject to the prohibitions of Directive 1 (as amended) of September 12, 2014, the following 46 persons, pursuant to E.O. 13662, “Blocking Property of Additional Persons Contributing to the Situation in Ukraine” and 31 CFR 589.406, 589.802, and following the Secretary of the Treasury's determination pursuant to section l(a)(i) of E.O. 13662 with respect to the financial services sector of the Russian Federation economy:

Entities

1. BPS-SBERBANK (a.k.a. BPS-SBERBANK OAO; a.k.a. OJSC BPS-SBERBANK), 6 Mulyavin Boulevard, Minsk 220005, Belarus; SWIFT/BIC BPSBBY2X; Executive Order 13662 Directive Determination—Subject to Directive 1; For more information on directives, please visit the following link: http://www.treasury.gov/resource-center/sanctions/Programs/Pages/ukraine.aspx#directives [UKRAINE-EO13662] (Linked To: SBERBANK OF RUSSIA).

2. CETELEM BANK LIMITED LIABILITY COMPANY (a.k.a. CETELEM BANK LLC; f.k.a. KOMMERCHESKI BANK UKRSIBBANK OBSHCHESTVO S OGRANICHENNOI OTVETSTVENNOSTYU; a.k.a. SETELEM BANK OBSHCHESTVO S OGRANICHENNOI OTVETSTVENNOSTYU; a.k.a. SETELEM BANK OOO), 26 ul. Pravdy, Moscow 125040, Russia; SWIFT/BIC CETBRUMM; Web site www.cetelem.ru; Executive Order 13662 Directive Determination—Subject to Directive 1; Registration ID 1027739664260 (Russia); For more information on directives, please visit the following link: http://www.treasury.gov/resource-center/sanctions/Programs/Pages/ukraine.aspx#directives [UKRAINE-EO13662] (Linked To: SBERBANK OF RUSSIA).

3. JSC SBERBANK OF RUSSIA (a.k.a. PUBLICHNE AKTSIONERNE TOVARYSTVO DOCHIRNII BANK SBERBANKU ROSII; a.k.a. SBERBANK OF RUSSIA JSC; f.k.a. SBERBANK OF RUSSIA SUBSIDIARY BANK PRIVATE JOINT STOCK COMPANY; a.k.a. SBERBANK OF RUSSIA SUBSIDIARY BANK PUBLIC JOINT STOCK COMPANY; a.k.a. SUBSIDIARY BANK SBERBANK OF RUSSIA PUBLIC JOINT-STOCK COMPANY), 46, Volodymyrska street, Kyiv 01601, Ukraine; SWIFT/BIC SABRUAUK; Web site www.sberbank.ua; Executive Order 13662 Directive Determination—Subject to Directive 1; Registration ID 25959784 (Ukraine); For more information on directives, please visit the following link: http://www.treasury.gov/resource-center/sanctions/Programs/Pages/ukraine.aspx#directives [UKRAINE-EO13662] (Linked To: SBERBANK OF RUSSIA).

4. OOO PS YANDEX.MONEY (a.k.a. LLC PS YANDEX.MONEY; a.k.a. PS YANDEKS.DENGI OOO), 16 Lva Tolstogo ul., Moscow 119021, Russia; Executive Order 13662 Directive Determination—Subject to Directive 1; Registration ID 1077746365113 (Russia); For more information on directives, please visit the following link: http://www.treasury.gov/resource-center/sanctions/Programs/Pages/ukraine.aspx#directives. [UKRAINE-EO13662] (Linked To: SBERBANK OF RUSSIA).

5. SB INTERNATIONAL SARL, Avenue J.F. Kennedy 46a, 1855 Luxembourg, Luxembourg; Executive Order 13662 Directive Determination—Subject to Directive 1; Registration ID B161089 (Luxembourg); For more information on directives, please visit the following link: http://www.treasury.gov/resource-center/sanctions/Programs/Pages/ukraine.aspx#directives [UKRAINE-EO13662] (Linked To: SBERBANK OF RUSSIA).

6. SB SBERBANK JSC (a.k.a. SUBSIDIARY BANK SBERBANK OF RUSSIA JOINT STOCK COMPANY), 13/1 Al Farabi Ave., Almaty 050059, Kazakhstan; 30/26, Gogol/Kaldayakov Street, Almaty 050010, Kazakhstan; SWIFT/BIC SABRKZKA; Web site www.sberbank.kz; Executive Order 13662 Directive Determination—Subject to Directive 1; For more information on directives, please visit the following link: http://www.treasury.gov/resource-center/sanctions/Programs/Pages/ukraine.aspx#directives [UKRAINE-EO13662] (Linked To: SBERBANK OF RUSSIA).

7. SBERBANK (SWITZERLAND) AG, Gartenstrasse 24, 8002 Zurich, Switzerland; PO Box 2136, Zurich 8027, Switzerland; Freigutstrasse 16, 8027 Zurich, Switzerland; SWIFT/BIC SLBZCHZZ; Web site www.slb-bank.ch; Executive Order 13662 Directive Determination—Subject to Directive 1; Registration ID CH-020.3.908.277-7 (Switzerland); alt. Registration ID CHE-106.291.569 (Switzerland); For more information on directives, please visit the following link: http://www.treasury.gov/resource-center/sanctions/Programs/Pages/ukraine.aspx#directives. [UKRAINE-EO13662] (Linked To: SBERBANK OF RUSSIA).

8. SBERBANK CAPITAL LLC (a.k.a. LLC SBERBANK CAPITAL; a.k.a. OBSHCHESTVO S OGRANICHENNOI OTVETSTVENNOSTYU SBERBANK KAPITAL; a.k.a. SBERBANK CAPITAL LIMITED LIABILITY COMPANY; a.k.a. SBERBANK KAPITAL, OOO), d.19 ul. Vavilova, Moscow 117997, Russia; Executive Order 13662 Directive Determination—Subject to Directive 1; Registration ID 1087746887678 (Russia); For more information on directives, please visit the following link: http://www.treasury.gov/resource-center/sanctions/Programs/Pages/ukraine.aspx#directives [UKRAINE-EO13662] (Linked To: SBERBANK OF RUSSIA).

9. SBERBANK EUROPE AG, Schwarzenbergplatz 3, Wien 1010, Austria; SWIFT/BIC SABRATWW; Web site www.sberbank.at; Executive Order 13662 Directive Determination—Subject to Directive 1; Registration ID FN 161285 i (Austria); For more information on directives, please visit the following link: http://www.treasury.gov/resource-center/sanctions/Programs/Pages/ukraine.aspx#directives. [UKRAINE-EO13662] (Linked To: SBERBANK OF RUSSIA).

10. SBERBANK INVESTMENTS LLC (a.k.a. LLC SBERBANK INVESTMENTS; a.k.a. SBERBANK INVESTMENTS OOO), 46 Molodezhnaya Ul., Odintsovo 143002, Russia; Executive Order 13662 Directive Determination—Subject to Directive 1; For more information on directives, please visit the following link: http://www.treasury.gov/resource-center/sanctions/Programs/Pages/ukraine.aspx#directives [UKRAINE-EO13662] (Linked To: SBERBANK OF RUSSIA).

11. SBERBANK LEASING CJSC (a.k.a. CJSC SBERBANK LEASING; f.k.a. RUSSKO-GERMANSKAYA LIZINGOVAYA KOMPANIYA ZAO; a.k.a. SBERBANK LEASING JOINT STOCK COMPANY; a.k.a. SBERBANK LEASING ZAO; a.k.a. SBERBANK LIZING ZAKRYTOE AKTSIONERNOE OBSHCHESTVO), Russia; 6 Vorobievskoe shosse, Moscow 119285, Russia; Web site www.sberleasing.ru; Executive Order 13662 Directive Determination—Subject to Directive 1; Registration ID 1027739000728 (Russia); For more information on directives, please visit the following link: http://www.treasury.gov/resource-center/sanctions/Programs/Pages/ukraine.aspx#directives [UKRAINE-EO13662] (Linked To: SBERBANK OF RUSSIA).

12. BANCO VTB AFRICA, S.A. (a.k.a. VTB AFRICA), 22, Rua da Missao, Luanda, Angola; SWIFT/BIC VTBLAOLU; Web site www.vtb.ao; Executive Order 13662 Directive Determination—Subject to Directive 1; For more information on directives, please visit the following link: http://www.treasury.gov/resource-center/sanctions/Programs/Pages/ukraine.aspx#directives [UKRAINE-EO13662] (Linked To: VTB BANK OAO).

13. BANK VTB (KAZAKHSTAN), JSC (a.k.a. JOINT STOCK COMPANY VTB BANK (KAZAKHSTAN); a.k.a. SUBSIDIARY JSC BANK VTB (KAZAKHSTAN)), 28 v Timiryazeva str., Almaty 050040, Kazakhstan; 28 Timiryazev Street, Almaty 050040, Kazakhstan; SWIFT/BIC VTBAKZKZ; Web site http://en.vtb-bank.kz/; Executive Order 13662 Directive Determination—Subject to Directive 1; For more information on directives, please visit the following link: http://www.treasury.gov/resource-center/sanctions/Programs/Pages/ukraine.aspx#directives [UKRAINE-EO13662] (Linked To: VTB BANK OAO).

14. BANK VTB 24 PUBLIC JOINT STOCK COMPANY (f.k.a. BANK VTB 24 (ZAKRYTOE AKTSIONERNOE OBSHCHESTVO); a.k.a. BANK VTB 24 CLOSED JOINT STOCK COMPANY; a.k.a. BANK VTB 24 PUBLICHNOE AKTSIONERNOE OBSHCHESTVO; a.k.a. VTB 24 JSC; a.k.a. VTB 24 PAO), d. 35 ul. Myasnitskaya, Moscow 101000, Russia; SWIFT/BIC CBGURUMM; Web site www.vtb24.ru; Executive Order 13662 Directive Determination—Subject to Directive 1; Registration ID 1027739207462 (Russia); For more information on directives, please visit the following link: http://www.treasury.gov/resource-center/sanctions/Programs/Pages/ukraine.aspx#directives [UKRAINE-EO13662] (Linked To: VTB BANK OAO).

15. JOINT STOCK COMPANY HALS-DEVELOPMENT (a.k.a. GALS-DEVELOPMENT, OAO; a.k.a. HALS DEVELOPMENT OJSC; a.k.a. HALS-DEVELOPMENT JSC; a.k.a. HALS-DEVELOPMENT, OJSC; a.k.a. OTKRYTOE AKTSIONERNOE OBSHCHESTVO GALS DEVELOPMENT; f.k.a. ZAKRYTOE AKTSIONERNOE OBSHCHESTVO SISTEMA HALS), d. 35 str. 4 ul. Tatarskaya B, Moscow 115184, Russia; Web site www.hals-development.ru; Executive Order 13662 Directive Determination—Subject to Directive 1; Registration ID 1027739002510 (Russia); For more information on directives, please visit the following link: http://www.treasury.gov/resource-center/sanctions/Programs/Pages/ukraine.aspx#directives [UKRAINE-EO13662] (Linked To: VTB BANK OAO).

16. MULTICARTA (a.k.a. MULTICARTA, LTD; a.k.a. MULTIKARTA, OOO; a.k.a. OBSHCHESTVO S OGRANICHENNOI OTVETSTVENNOSTYU MULTIKARTA), d. 43 korp. 1 ul. Vorontsovskaya, Moscow 109147, Russia; Web site www.multicarta.ru; Executive Order 13662 Directive Determination—Subject to Directive 1; Registration ID 1027739116404 (Russia); For more information on directives, please visit the following link: http://www.treasury.gov/resource-center/sanctions/Programs/Pages/ukraine.aspx#directives [UKRAINE-EO13662] (Linked To: VTB BANK OAO).

17. NPF VTB PENSION FUND, JSC (a.k.a. AKTSIONERNOE OBSHCHESTVO NEGOSUDARSTVENNY PENSIONNY FOND VTB PENSIONNY FOND; f.k.a. NEKOMMERCHESKAYA ORGANIZATSIYA NEGOSUDARSTVENNY PENSIONNY FOND VTB PENSIONNY FOND; a.k.a. NONPROFIT ORGANIZATION NON-STATE PENSION FUND VTB PENSION FUND; a.k.a. NON-STATE PENSION FUND VTB PENSION FUND, JSC; a.k.a. NPF VTB PENSIONNY FOND, AO), d. 43 str. 1 ul. Vorontsovskaya, Moscow 109147, Russia; Executive Order 13662 Directive Determination—Subject to Directive 1; Registration ID 1147799014692 (Russia); For more information on directives, please visit the following link: http://www.treasury.gov/resource-center/sanctions/Programs/Pages/ukraine.aspx#directives [UKRAINE-EO13662] (Linked To: VTB BANK OAO).

18. PJSC VTB BANK (KIEV) (a.k.a. PUBLICHNE AKTSIONERNE TOVARYSTVO VTB BANK; a.k.a. PUBLIC-JOINT STOCK COMPANY VTB BANK (UKRAINE); a.k.a. VTB BANK, PJSC; a.k.a. VTB BANK, PJSC (UKRAINE); a.k.a. VTB BANK, PUBLIC JOINT STOCK COMPANY), 8/26, Shevchenka boulevard/Pushkinska street, Kyiv 01004, Ukraine; 8/26 Pushkinskaya str/Shevchenko bulvr, Kiev 01004, Ukraine; SWIFT/BIC VTBRUAUK; Web site www.vtb.com.ua; Executive Order 13662 Directive Determination—Subject to Directive 1; Government Gazette Number 14359319 (Ukraine); For more information on directives, please visit the following link: http://www.treasury.gov/resource-center/sanctions/Programs/Pages/ukraine.aspx#directives [UKRAINE-EO13662] (Linked To: VTB BANK OAO).

19. VTB BANK (ARMENIA), CJSC (f.k.a. SAVINGS BANK OF THE REPUBLIC OF ARMENIA; a.k.a. VTB BANK (ARMENIA) CJSC), 46 Ul Nalbandyan, Yerevan 375010, Armenia; SWIFT/BIC ARMJAM22; Web site www.vtb.am; Executive Order 13662 Directive Determination—Subject to Directive 1; For more information on directives, please visit the following link: http://www.treasury.gov/resource-center/sanctions/Programs/Pages/ukraine.aspx#directives [UKRAINE-EO13662] (Linked To: VTB BANK OAO).

20. VTB BANK (AUSTRIA) AG, Parking 6, PO Box 560, Vienna 1010, Austria; SWIFT/BIC DOBAATWW; Web site www.vtb.at; Executive Order 13662 Directive Determination—Subject to Directive 1; Registration ID FN 117595 i; For more information on directives, please visit the following link: http://www.treasury.gov/resource-center/sanctions/Programs/Pages/ukraine.aspx#directives [UKRAINE-EO13662] (Linked To: VTB BANK OAO).

21. VTB BANK (AZERBAIJAN), OJSC (a.k.a. BANK VTB (AZERBAIJAN) OJSC; a.k.a. JSC VTB BANK (AZERBAIJAN); f.k.a. OJSC AF BANK), 38 Khatai ave. Nasimi district, Baku AZ 1008, Azerbaijan; 60, Samed Vurgun str, Baku 1022, Azerbaijan; SWIFT/BIC VTBAAZ22; Web site http://en.vtb.az/; Executive Order 13662 Directive Determination—Subject to Directive 1; For more information on directives, please visit the following link: http://www.treasury.gov/resource-center/sanctions/Programs/Pages/ukraine.aspx#directives [UKRAINE-EO13662] (Linked To: VTB BANK OAO).

22. VTB BANK (BELARUS), CJSC (f.k.a. CJSC SLAVNEFTEBANK; a.k.a. CJSC VTB BANK (BELARUS); a.k.a. VTB BANK (BELARUS); a.k.a. VTB BANK (BELARUS) CLOSED JOINT STOCK COMPANY), 14, Moskovskaya Street, Minsk 220007, Belarus; SWIFT/BIC SLANBY22; Web site www.vtb-bank.by; Executive Order 13662 Directive Determination—Subject to Directive 1; For more information on directives, please visit the following link: http://www.treasury.gov/resource-center/sanctions/Programs/Pages/ukraine.aspx#directives [UKRAINE-EO13662] (Linked To: VTB BANK OAO).

23. VTB BANK (GEORGIA), JSC (a.k.a. JSC VTB BANK (GEORGIA); a.k.a. JSC VTB BANK GEORGIA; f.k.a. UNITED GEORGIAN BANK), 14, G. Chanturia Street, Tbilisi 0114, Georgia; SWIFT/BIC UGEBGE22; Web site www.vtb.com.ge; Executive Order 13662 Directive Determination—Subject to Directive 1; For more information on directives, please visit the following link: http://www.treasury.gov/resource-center/sanctions/Programs/Pages/ukraine.aspx#directives [UKRAINE-EO13662] (Linked To: VTB BANK OAO).

24. VTB BANK JSC BELGRADE (f.k.a. MOSKOVSKA BANKA AD; a.k.a. VTB BANKA AD BEOGRAD), 2 Balkanska street, Belgrade 11 000, Serbia; SWIFT/BIC MBBGRSBG; Web site www.vtbbanka.rs; Executive Order 13662 Directive Determination—Subject to Directive 1; For more information on directives, please visit the following link: http://www.treasury.gov/resource-center/sanctions/Programs/Pages/ukraine.aspx#directives [UKRAINE-EO13662] (Linked To: VTB BANK OAO).

25. VTB CAPITAL HOLDING CJSC (a.k.a. HOLDING VTB CAPITAL, CJSC; a.k.a. KHOLDING VTB KAPITAL ZAKRYTOE AKTSIONERNOE OBSHCHESTVO; a.k.a. VTB CAPITAL HOLDING ZAO), 12 Presnenskaya nab., Moscow 123100, Russia; Web site http://vtbcapital.com; Executive Order 13662 Directive Determination—Subject to Directive 1; Registration ID 1097746344596 (Russia); For more information on directives, please visit the following link: http://www.treasury.gov/resource-center/sanctions/Programs/Pages/ukraine.aspx#directives [UKRAINE-EO13662] (Linked To: VTB BANK OAO).

26. VTB DC, LTD, Room 47, office XIV, 8 Brestskaya Street, Moscow 125047, Russia; Executive Order 13662 Directive Determination—Subject to Directive 1; For more information on directives, please visit the following link: http://www.treasury.gov/resource-center/sanctions/Programs/Pages/ukraine.aspx#directives [UKRAINE-EO13662] (Linked To: VTB BANK OAO).

27. VTB FACTORING, LTD (a.k.a. OBSHCHESTVO S OGRANICHENNOI OTVETSTVENNOSTYU VTB FAKTORING; a.k.a. VTB FACTORING LIMITED; a.k.a. VTB FAKTORING, OOO), d. 52 str. 1 nab.Kosmodamianskaya, Moscow 115054, Russia; Web site www.vtbf.ru; Executive Order 13662 Directive Determination—Subject to Directive 1; Registration ID 5087746611145 (Russia); For more information on directives, please visit the following link: http://www.treasury.gov/resource-center/sanctions/Programs/Pages/ukraine.aspx#directives [UKRAINE-EO13662] (Linked To: VTB BANK OAO).

28. VTB INSURANCE LIMITED (a.k.a. INSURANCE COMPANY VTB-INSURANCE LIMITED; a.k.a. INSURANCE COMPANY VTB-INSURANCE, LTD; f.k.a. OBSHCHESTVO S OGRANICHENNOI OTVETSTVENNOSTYU STRAKHOVOI KAPITAL; a.k.a. VTB STRAKHOVANIE SK OOO; a.k.a. VTB STRAKHOVANIE STRAKHOVAYA KOMPANIYA OOO), str. 1 8 Chistoprudnyy bulvar, Moscow 101000, Russia; Web site www.vtbins.ru; Executive Order 13662 Directive Determination—Subject to Directive 1; Registration ID 1027700462514 (Russia); For more information on directives, please visit the following link: http://www.treasury.gov/resource-center/sanctions/Programs/Pages/ukraine.aspx#directives [UKRAINE-EO13662] (Linked To: VTB BANK OAO).

29. VTB LEASING OPEN JOINT-STOCK COMPANY (a.k.a. JSC VTB LEASING; a.k.a. VTB LIZING, OAO; a.k.a. VTB LIZING, OTKRYTOE AKTSIONERNOE OBSHCHESTVO; a.k.a. VTB-LEASING, OJSC), 2nd Volkonskiy pereulok 10, Moscow 127473, Russia; 43 str. 1 ul. Vorontsovskaya, Moscow 109147, Russia; Web site www.vtb-leasing.ru; Executive Order 13662 Directive Determination—Subject to Directive 1; Registration ID 1037700259244 (Russia); For more information on directives, please visit the following link: http://www.treasury.gov/resource-center/sanctions/Programs/Pages/ukraine.aspx#directives [UKRAINE-EO13662] (Linked To: VTB BANK OAO).

30. VTB PENSION ADMINISTRATOR, LIMITED (a.k.a. OBSHCHESTVO S OGRANICHENNOI OTVETSTVENNOSTYU VTB PENSIONNY ADMINISTRATOR; a.k.a. VTB PENSION ADMINISTRATOR, LTD; a.k.a. VTB PENSIONNY ADMINISTRATOR, OOO), d. 52 str. 1 nab.Kosmodamianskaya, Moscow 115054, Russia; Executive Order 13662 Directive Determination—Subject to Directive 1; Registration ID 1097746178232 (Russia); For more information on directives, please visit the following link: http://www.treasury.gov/resource-center/sanctions/Programs/Pages/ukraine.aspx#directives [UKRAINE-EO13662] (Linked To: VTB BANK OAO).

31. VTB REAL ESTATE LIMITED LIABILITY COMPANY (a.k.a. OBSHCHESTVO S OGRANICHENNOI OTVETSTVENNOSTYU VTB NEDVIZHIMOST; a.k.a. VTB NEDVIZHIMOST, OOO; a.k.a. VTB REAL ESTATE, LLC), d.70 ul. Mosfilmovskaya, Moscow 119590, Russia; Executive Order 13662 Directive Determination—Subject to Directive 1; Registration ID 1117746272907 (Russia); For more information on directives, please visit the following link: http://www.treasury.gov/resource-center/sanctions/Programs/Pages/ukraine.aspx#directives [UKRAINE-EO13662] (Linked To: VTB BANK OAO).

32. VTB REGISTRAR, CJSC (a.k.a. VTB REGISTRAR), 23, Pravdy Street, Moscow 125040, Russia; Web site www.vtbreg.ru; Executive Order 13662 Directive Determination—Subject to Directive 1; For more information on directives, please visit the following link: http://www.treasury.gov/resource-center/sanctions/Programs/Pages/ukraine.aspx#directives [UKRAINE-EO13662] (Linked To: VTB BANK OAO).

33. VTB SPECIALIZED DEPOSITORY, CJSC (a.k.a. CJS VTB SPECIALIZED DEPOSITORY), 35 Myasnitskaya Street, Moscow 101000, Russia; Web site www.odk.ru; Executive Order 13662 Directive Determination—Subject to Directive 1; For more information on directives, please visit the following link: http://www.treasury.gov/resource-center/sanctions/Programs/Pages/ukraine.aspx#directives [UKRAINE-EO13662] (Linked To: VTB BANK OAO).

34. ACTIVEBUSINESSCOLLECTION LIMITED LIABILITY COMPANY (a.k.a. AKTIVBIZNESKOLLEKSHN, OOO; a.k.a. LIMITED LIABILITY COMPANY ACTIVEBUSINESSCOLLECTION; a.k.a. LLC ACTIVEBUSINESSCOLLECTION; a.k.a. OBSHCHESTVO S OGRANICHENNOI OTVETSTVENNOSTYU AKTIVBIZNESKOLLEKSHN), d.19 ul. Vavilova, Moscow 117997, Russia; Executive Order 13662 Directive Determination—Subject to Directive 1; Registration ID 1137746390572 (Russia); For more information on directives, please visit the following link: http://www.treasury.gov/resource-center/sanctions/Programs/Pages/ukraine.aspx#directives [UKRAINE-EO13662] (Linked To: SBERBANK OF RUSSIA).

35. AUCTION LIMITED LIABILITY COMPANY (a.k.a. AUKCION LIMITED LIABILITY COMPANY; a.k.a. AUKTSION, OOO; a.k.a. LLC AUKCION; a.k.a. OBSHCHESTVO S OGRANICHENNOI OTVETSTVENNOSTYU AUKTSION), d.14 shosse Entuziastov, Moscow 111024, Russia; Web site www.aukcion-sbrf.ru; Executive Order 13662 Directive Determination—Subject to Directive 1; Registration ID 1027700256297 (Russia); For more information on directives, please visit the following link: http://www.treasury.gov/resource-center/sanctions/Programs/Pages/ukraine.aspx#directives [UKRAINE-EO13662] (Linked To: SBERBANK OF RUSSIA).

36. BYLINNYE BOGATYRI LIMITED LIABILITY COMPANY (a.k.a. BYLINNYE BOGATYRI, OOO; a.k.a. LLC BYLINNYE BOGATYRI), 10 Presnenskaya Embankment, Moscow 123317, Russia; Executive Order 13662 Directive Determination—Subject to Directive 1; For more information on directives, please visit the following link: http://www.treasury.gov/resource-center/sanctions/Programs/Pages/ukraine.aspx#directives [UKRAINE-EO13662] (Linked To: SBERBANK OF RUSSIA).

37. JSC SBERBANK-AUTOMATED SYSTEM FOR TRADING (a.k.a. JOINT STOCK COMPANY SBERBANK-AUTOMATED SYSTEM FOR TRADING; a.k.a. SBERBANK—AUTOMATED TRADING SYSTEM CLOSED JOINT-STOCK COMPANY; a.k.a. SBERBANK-AST, ZAO; a.k.a. ZAKRYTOE AKTSIONERNOE OBSHCHESTVO SBERBANKAVTOMATIZIROVANNAYA SISTEMA TORGOV), d. 24 str. 2 ul. Novoslobodskaya, Moscow 127055, Russia; Web site www.sberbank-ast.ru; Executive Order 13662 Directive Determination—Subject to Directive 1; Registration ID 1027707000441 (Russia); For more information on directives, please visit the following link: http://www.treasury.gov/resource-center/sanctions/Programs/Pages/ukraine.aspx#directives [UKRAINE-EO13662] (Linked To: SBERBANK OF RUSSIA).

38. KORUS CONSULTING CIS LIMITED LIABILITY COMPANY (a.k.a. KORUS KONSALTING SNG, OOO; a.k.a. LLL KORUS CONSULTING CIS; a.k.a. OBSHCHESTVO S OGRANICHENNOI OTVETSTVENNOSTYU KORUS KONSALTING SNG), 68 Sampsonievsky Avenue, letter N, Room 1N, Saint Petersburg 194100, Russia; Executive Order 13662 Directive Determination—Subject to Directive 1; Registration ID 1057812752502 (Russia); For more information on directives, please visit the following link: http://www.treasury.gov/resource-center/sanctions/Programs/Pages/ukraine.aspx#directives [UKRAINE-EO13662] (Linked To: SBERBANK OF RUSSIA).

39. LLC SOVREMENNYE TECHNOLOGII (a.k.a. MODERN TECHNOLOGIES LIMITED LIABILITY COMPANY; a.k.a. OBSHCHESTVO S OGRANICHENNOI OTVETSTVENNOSTYU SOVREMENNYE TEKHNOLOGII; a.k.a. SOVREMENNYE TEKHNOLOGII, OOO), 12a Korp. 1str 6 Pr 2-I Yuzhnoportovy, Moscow 115432, Russia; Executive Order 13662 Directive Determination—Subject to Directive 1; Registration ID 1037708040468 (Russia); For more information on directives, please visit the following link: http://www.treasury.gov/resource-center/sanctions/Programs/Pages/ukraine.aspx#directives [UKRAINE-EO13662] (Linked To: SBERBANK OF RUSSIA).

40. NON-STATE PENSION FUND OF SBERBANK (a.k.a. CJSC NON-STATE PENSION FUND OF SBERBANK; f.k.a. NEGOSUDARSTVENNY PENSIONNY FOND SBERBANKA; a.k.a. NPF SBERBANKA, ZAO; a.k.a. SBERBANK PRIVATE PENSION FUND CLOSED JOINT-STOCK COMPANY; a.k.a. ZAKRYTOE AKTSIONERNOE OBSHCHESTVO NEGOSUDARSTVENNY PENSIONNY FOND SBERBANKA), d. 31 G ul. Shabolovka, Moscow 115162, Russia; Web site www.npfsberbanka.ru; Executive Order 13662 Directive Determination—Subject to Directive 1; Registration ID 1147799009160 (Russia); For more information on directives, please visit the following link: http://www.treasury.gov/resource-center/sanctions/Programs/Pages/ukraine.aspx#directives [UKRAINE-EO13662] (Linked To: SBERBANK OF RUSSIA).

41. RUST CLOSED JOINT-STOCK COMPANY (a.k.a. CJSC RUST; a.k.a. JSC RUSTE; a.k.a. RUST ZAKRYTOE AKTSIONERNOE OBSHCHESTVO; a.k.a. RUST ZAO), 2 ul. Krasnogo Tekstilshchika, St. Petersburg 191124, Russia; Executive Order 13662 Directive Determination—Subject to Directive 1; Registration ID 1027800513070 (Russia); For more information on directives, please visit the following link: http://www.treasury.gov/resource-center/sanctions/Programs/Pages/ukraine.aspx#directives [UKRAINE-EO13662] (Linked To: SBERBANK OF RUSSIA).

42. SB SECURITIES S.A., Boulevard Konrad Adenauer 2, Luxembourg 1115, Luxembourg; Executive Order 13662 Directive Determination—Subject to Directive 1; Registration ID B171037 (Luxembourg); For more information on directives, please visit the following link: http://www.treasury.gov/resource-center/sanctions/Programs/Pages/ukraine.aspx#directives [UKRAINE-EO13662] (Linked To: SBERBANK OF RUSSIA).

43. SBERBANK FINANCE COMPANY LIMITED LIABILITY COMPANY (a.k.a. LIMITED LIABILITY COMPANY SBERBANK FINANCIAL COMPANY; a.k.a. LLC SBERBANK FINANCIAL COMPANY; a.k.a. OBSHCHESTVO S OGRANICHENNOI OTVETSTVENNOSTYU FINANSOVAYA KOMPANIYA SBERBANKA; a.k.a. SBERBANK-FINANS, OOO), d.29/16 per. Sivtsev Vrazhek, Moscow 119002, Russia; Executive Order 13662 Directive Determination—Subject to Directive 1; Registration ID 1107746399903 (Russia); For more information on directives, please visit the following link: http://www.treasury.gov/resource-center/sanctions/Programs/Pages/ukraine.aspx#directives [UKRAINE-EO13662] (Linked To: SBERBANK OF RUSSIA).

44. SBERBANK INSURANCE BROKER LIMITED LIABILITY COMPANY (a.k.a. LLC INSURANCE BROKER OF SBERBANK; a.k.a. OBSHCHESTVO S OGRANICHENNOI OTVETSTVENNOSTYU STRAKHOVOI BROKER SBERBANKA; a.k.a. OOO STRAKHOVOI BROKER SBERBANKA; a.k.a. STRAKHOVOI BROKER SBERBANKA, OOO), 42 Bolshaya Yakimanka St., b. 1-2, office 206, Moscow 119049, Russia; Executive Order 13662 Directive Determination—Subject to Directive 1; Registration ID 1147746683468 (Russia); For more information on directives, please visit the following link: http://www.treasury.gov/resource-center/sanctions/Programs/Pages/ukraine.aspx#directives [UKRAINE-EO13662] (Linked To: SBERBANK OF RUSSIA).

45. SBERBANK INSURANCE COMPANY LTD (a.k.a. LLC INSURANCE COMPANY SBERBANK INSURANCE; f.k.a. OBSHCHESTVO S OGRANICHENNOI OTVETSTVENNOSTYU STRAKHOVAYA KOMPANIYA SBERBANK OBSHCHEE STRAKHOVANIE; a.k.a. OBSHCHESTVO S OGRANICHENNOI OTVETSTVENNOSTYU STRAKHOVAYA KOMPANIYA SBERBANK STRAKHOVANIE; a.k.a. SBERBANK STRAHOVANIE OOO SK; a.k.a. SK SBERBANK STRAHOVANIE, LLC), 42 Bolshaya Yakimanka St., b. 1-2, office 209, Moscow 119049, Russia; 7 ul. Pavlovskaya, Moscow, Russia; Executive Order 13662 Directive Determination—Subject to Directive 1; Registration ID 1147746683479 (Russia); For more information on directives, please visit the following link: http://www.treasury.gov/resource-center/sanctions/Programs/Pages/ukraine.aspx#directives [UKRAINE-EO13662] (Linked To: SBERBANK OF RUSSIA).

46. SBERBANK TECHNOLOGIES CLOSED JOINT STOCK COMPANY (a.k.a. CJSC SBERBANK-TECHNOLOGY; a.k.a. CLOSED JOINT STOCK COMPANY SBERBANK—TECHNOLOGY; a.k.a. SBERTEKH, ZAO; a.k.a. ZAKRYTOE AKTSIONERNOE OBSHCHESTVO SBERBANK—TEKHNOLOGII), d.10 nab.Novodanilovskaya, Moscow 117105, Russia; Executive Order 13662 Directive Determination—Subject to Directive 1; Registration ID 1117746533926 (Russia); For more information on directives, please visit the following link: http://www.treasury.gov/resource-center/sanctions/Programs/Pages/ukraine.aspx#directives [UKRAINE-EO13662] (Linked To: SBERBANK OF RUSSIA).

As entities owned, directly or indirectly, 50 percent or more by Sberbank of Russia or VTB Bank OAO, these entities are subject to the same prohibitions as Sberbank of Russia or VTB Bank OAO.

On December 22, 2015, OFAC identified as subject to the prohibitions of Directive 3 of September 12, 2014, the following 41 persons, pursuant to E.O. 13662, “Blocking Property of Additional Persons Contributing to the Situation in Ukraine” and 31 CFR 589.406, 589.802, and following the Secretary of the Treasury's determination pursuant to section 1(a)(i) of E.O. 13662 with respect to the defense and related materiel sector of the Russian Federation economy:

Entities

1. 90 EKSPERIMENTALNY ZAVOD OAO (a.k.a. 90 EXPERIMENTAL PLANT OPEN JOINT STOCK COMPANY; a.k.a. OPEN JOINT-STOCK COMPANY 90 EKSPERIMENTALNIY ZAVOD), P. Rassudovo, Street Tsentralnaya, D. 103, Moscow 143396, Russia; Web site http://www.90zavod.ru; Executive Order 13662 Directive Determination—Subject to Directive 3; Tax ID No. 5030056754; For more information on directives, please visit the following link: http://www.treasury.gov/resource-center/sanctions/Programs/Pages/ukraine.aspx#directives [UKRAINE-EO13662] (Linked To: ROSTEC).

2. AKTSIONERNOE OBSHCHESTVO MOSKOVSKI MASHINOSTROITELNY EKSPERIMENTALNY ZAVOD—KOMPOZITSIONNYE TEKHNOLOGII (a.k.a. JOINT STOCK COMPANY MOSKOW EXPERIMENTAL MACHINE-BUILDING PLANT—COMPOSITE TECHNOLOGIES; a.k.a. MMEZ-KT OJSC; a.k.a. MMEZ-KT, AO; a.k.a. MMEZ-KT-OAO; a.k.a. MOSCOW MECHANICAL EXPERIMENTAL PLANT—COMPOSITE TECHNOLOGIES OPEN JOINT STOCK COMPANY; a.k.a. MOSKOVSKIY MEKHANICHESKIY EKSPERIMENTALNIY ZAVOD—KOMPOZITSIONNYE TEKHNOLOGII; f.k.a. OTKRYTOE AKTSIONERNOE OBSHCHESTVO MOSKOVSKI MEKHANICHESKI EKSPEREMENTALNY ZAVOD), d. 9 Pr. 1-I Magistralny, Moscow 123290, Russia; Email Address 9400658@rambler.ru; Executive Order 13662 Directive Determination—Subject to Directive 3; Registration ID 1037714019815; Tax ID No. 7714303050; Government Gazette Number 00211286; For more information on directives, please visit the following link: http://www.treasury.gov/resource-center/sanctions/Programs/Pages/ukraine.aspx#directives [UKRAINE-EO13662] (Linked To: ROSTEC).

3. AKTSIONERNOE OBSHCHESTVO NAUCHNO-PROIZVODSTVENNOE OBEDINENIE OPTIKA (a.k.a. FEDERAL STATE UNITARY ENTERPRISE @SCIENTIFIC AND PRODUCTION ASSOCIATION OPTIKA; f.k.a. FEDERALNOE GOSUDARSTVENNOE UNITARNOE PREDPRIYATIE NAUCHNO PROIZVODSTVENNOE OBEDINENIE OPTIKA; a.k.a. NPO OPTIKA, AO; a.k.a. OPEN JOINT STOCK COMPANY NAUCHNO-PROIZVODSTVENNOYE OBYEDINENIYE OPTIKA), Vladenie 33 Shosse Altufevskoe, Moscow 127410, Russia; Shosse Altufyevskoye, D. 33, Moscow 127410, Russia; Email Address TEOPT@MAIL.CNT.RU; Executive Order 13662 Directive Determination—Subject to Directive 3; Registration ID 1127746188536; Tax ID No. 7715909132; Government Gazette Number 17412936; For more information on directives, please visit the following link: http://www.treasury.gov/resource-center/sanctions/Programs/Pages/ukraine.aspx#directives [UKRAINE-EO13662] (Linked To: ROSTEC).

4. AKTSIONERNOE OBSHCHESTVO NAUCHNO-PROIZVODSTVENNY KONTSERN TEKHNOLOGII MASHINOSTROENIYA (f.k.a. AKTSIONERNOE OBSHCHESTVO NAUCHNO PROIZVODSTVENNY KONTSERN TECHNOLOGIES MASHINOSTROENIYA; a.k.a. JOINT STOCK COMPANY SCIENTIFIC INDUSTRIAL CONCERN MANUFACTURING ENGINEERING; a.k.a. JSC SCIENTIFIC INDUSTRIAL CONCERN MECHANICAL ENGINEERING; a.k.a. MANUFACTURING ENGINEERING SCIENTIFIC INDUSTRIAL CONCERN OPEN JOINT STOCK COMPANY; a.k.a. MECHANICAL ENGINEERING TECHNOLOGIES; a.k.a. NPK TECHNOLOGII MASCHINOSTROJENIJA; a.k.a. NPK TEKHMASH; a.k.a. NPK TEKHMASH AO; a.k.a. NPK TEKHMASH OAO; a.k.a. NPK TEKHMASH OJSC; a.k.a. OJSC MACHINE ENGINEERING TECHNOLOGIES; a.k.a. SCIENTIFIC INDUSTRIAL CONCERN MANUFACTURING ENGINEERING OJSC), d. 58 str. 4 shosse Leningradskoe, Moscow 125212, Russia; Executive Order 13662 Directive Determination—Subject to Directive 3; Registration ID 1117746260477; Tax ID No. 7743813961; Government Gazette Number 91420386; For more information on directives, please visit the following link: http://www.treasury.gov/resource-center/sanctions/Programs/Pages/ukraine.aspx#directives [UKRAINE-EO13662] (Linked To: ROSTEC).

5. AKTSIONERNOE OBSHCHESTVO NOVOSIBIRSKI ZAVOD POLUPROVODNIKOVYKH PRIBOROV S OKB (a.k.a. NOVOSIBIRSK FACTORY OF SEMICONDUCTOR DEVICES WITH THE SPECIAL DESIGN CENTRE PUBLIK JOINT STOCK COMPANY; a.k.a. NZP POLUPROVODNIKOVYKH PRIBOROV S OKB, AO; a.k.a. NZPP S OKB OJSC; f.k.a. OTKRYTOE AKTSIONERNOE OBSHCHESTVO NOVOSIBIRSKI ZAVOD POLUPROVODNIKOVYKH PRIBOROV S OKB), 60 ul. Dachnaya, Novosibirsk, Novosibirskaya obl. 630082, Russia; Email Address secretar@nzpp.ru; Executive Order 13662 Directive Determination—Subject to Directive 3; Registration ID 1115476167180; Tax ID No. 5402546039; Government Gazette Number 07617658; For more information on directives, please visit the following link: http://www.treasury.gov/resource-center/sanctions/Programs/Pages/ukraine.aspx#directives [UKRAINE-EO13662] (Linked To: ROSTEC).

6. AKTSIONERNOE OBSHCHESTVO RT-AVTO (a.k.a. RT-AUTO OPEN JOINT STOCK COMPANY; a.k.a. RT-AVTO OJSC; a.k.a. “RT-AUTO”; a.k.a. “RT-AVTO, AO”; a.k.a. “RT-AVTO, OAO”), d. 2/17 str. 1 tup Verkhni Taganski, Moscow 109240, Russia; Web site http://rostec.ru; Executive Order 13662 Directive Determination—Subject to Directive 3; Registration ID 1107746247850; Tax ID No. 7709851082; Government Gazette Number 66310966; For more information on directives, please visit the following link: http://www.treasury.gov/resource-center/sanctions/Programs/Pages/ukraine.aspx#directives [UKRAINE-EO13662] (Linked To: ROSTEC).

7. AKTSIONERNOE OBSHCHESTVO RT-BIOTEKHPROM (a.k.a. RT-BIOTECHPROM; a.k.a. RT-BIOTECHPROM OJSC; a.k.a. RT-BIOTEKHPROM, AO), d. 24 ul. Usacheva, Moscow 119048, Russia; Web site www.rt-biotechprom.ru; Email Address dshumikhin@rt-biotechprom.ru; Executive Order 13662 Directive Determination—Subject to Directive 3; Registration ID 1097746425996; Tax ID No. 7704730729; Government Gazette Number 62666778; For more information on directives, please visit the following link: http://www.treasury.gov/resource-center/sanctions/Programs/Pages/ukraine.aspx#directives [UKRAINE-EO13662] (Linked To: ROSTEC).

8. AKTSIONERNOE OBSHCHESTVO RT-KHIMICHESKIE TEKHNOLOGII I KOMPOZITSIONNYE MATERIALY (a.k.a. JOINT STOCK COMPANY RT-CHEMICAL TECHNOLOGIES AND COMPOSITE MATERIALS; a.k.a. OAO JSC CHEMCOMPOSITE; f.k.a. OTKRYTOE AKTSIONERNOE OBSHCHESTVO RT KHIMICHESKIE I KOMPOZITSIONNYE TECHNOLOGIES I MATERIALY; f.k.a. OTKRYTOE AKTSIONERNOE OBSHCHESTVO RT KHIMICHESKIE TECHNOLOGIES I KOMPOZITSIONNYE MATERIALY; a.k.a. RT-CHEMICAL AND COMPOSITE TECHNOLOGIES AND MATERIALS; a.k.a. RT-KHIMKOMPOZIT OAO; a.k.a. RT-KHIMKOMPOZIT OJSC; a.k.a. RT-KHIMKOMPOZIT, AO), d. 40 korp. 1 ul. Narodnogo Opolcheniya, Moscow 123298, Russia; Executive Order 13662 Directive Determination—Subject to Directive 3; Registration ID 1097746269785; Tax ID No. 7734613934; Government Gazette Number 61698405; For more information on directives, please visit the following link: http://www.treasury.gov/resource-center/sanctions/Programs/Pages/ukraine.aspx#directives [UKRAINE-EO13662] (Linked To: ROSTEC).

9. AKTSIONERNOE OBSHCHESTVO RT-OKHRANA (a.k.a. JOINT STOCK COMPANY RT-GUARD; a.k.a. RT-OKHRANA; a.k.a. RT-OKHRANA ZAO; a.k.a. RT-OKHRANA, AO; a.k.a. ZAO RT-OKHRANA), d. 24 ul. Usacheva, Moscow 119048, Russia; Web site http://rtguard.ru/; Executive Order 13662 Directive Determination—Subject to Directive 3; Registration ID 1107746577652; Tax ID No. 7704759968; Government Gazette Number 66902230; For more information on directives, please visit the following link: http://www.treasury.gov/resource-center/sanctions/Programs/Pages/ukraine.aspx#directives [UKRAINE-EO13662] (Linked To: ROSTEC).

10. AKTSIONERNOE OBSHCHESTVO RT-STROITELNYE TEKHNOLOGII (a.k.a. JOINT STOCK COMPANY RT-CONSTRUCTION TECHNOLOGIES; a.k.a. OPEN JOINT-STOCK COMPANY RT-STROITELNYYE TEKHNOLOGII; a.k.a. RT-STROITELNYE TECHNOLOGIES OAO; a.k.a. RT-STROITELNYE TEKHNOLOGII, AO), d. 2 korp., 4 str., 16 kv., 6 per. Bolshoi Savvinski, Moscow 119435, Russia; Email Address chernyakova-st@stroytech-rt.ru; Executive Order 13662 Directive Determination—Subject to Directive 3; Registration ID 1097746324400; Tax ID No. 7704727853; Government Gazette Number 61771160; For more information on directives, please visit the following link: http://www.treasury.gov/resource-center/sanctions/Programs/Pages/ukraine.aspx#directives [UKRAINE-EO13662] (Linked To: ROSTEC).

11. AKTSIONERNOE OBSHCHESTVO SHVABE (a.k.a. JOINT STOCK COMPANY SHVABE; f.k.a. OTKRYTOE AKTSIONERNOE OBSHCHESTVO NAUCHNO PROIZVODSTVENNY KONTSERN OPTICHESKIE SISTEMY I TECHNOLOGIES; a.k.a. SHVABE OPEN JOINT STOCK COMPANY; a.k.a. SHVABE, AO), d. 33 B ul.Vostochnaya, Ekaterinburg, Sverdlovskaya obl. 620100, Russia; 33b, Vostochnaya St., Yekaterinburg City, Russia; Web site http://www.shvabe.com; Email Address mail@shvabe.com; Executive Order 13662 Directive Determination—Subject to Directive 3; Registration ID 1107746256727; Tax ID No. 7717671799; Government Gazette Number 07508641; For more information on directives, please visit the following link: http://www.treasury.gov/resource-center/sanctions/Programs/Pages/ukraine.aspx#directives [UKRAINE-EO13662] (Linked To: ROSTEC).

12. AKTSIONERNOE OBSHCHESTVO TEKHNODINAMIKA (f.k.a. AGREGATNOE KONSTRUKTORSKOE BYURO YAKOR OAO; a.k.a. JOINT STOCK COMPANY AVIATION EQUIPMENT; a.k.a. “TECHNODINAMIKA”; a.k.a. “TEKHNODINAMIKA, AO”), d. 29 ul. Ibragimova, Moscow 105318, Russia; Web site www.akbyakor.ru; Email Address amuravyeva@avia-equipment.ru; Executive Order 13662 Directive Determination—Subject to Directive 3; Registration ID 1037719005873; Tax ID No. 7719265496; Government Gazette Number 07543117; For more information on directives, please visit the following link: http://www.treasury.gov/resource-center/sanctions/Programs/Pages/ukraine.aspx#directives [UKRAINE-EO13662] (Linked To: ROSTEC).

13. AKTSIONERNOE OBSHCHESTVO TSENTRALNOE KONSTRUKTORSKOE BYURO SPETSIALNYKH RADIOMATERIALOV (a.k.a. CENTRAL DESIGN BUREAU OF SPECIAL RADIO MATERIALS OPEN JOINT STOCK COMPANY; f.k.a. FEDERALNOE GOSUDARSTVENNOE UNITARNOE PREDPRIYATIE TSENTRALNOE KONSTRUKTORSKOE BYURO SPETSIALNYKH RADIOMATERIALOV; a.k.a. OPEN JOINT STOCK COMPANY TSENTRALNOYE KONSTRUKTORSKOYE BYURO SPETSIALNYKH RADIOMATERIALOV; a.k.a. OPEN JOINT-STOCK COMPANY CENTRAL DESIGN OFFICE OF RADIOMATERIALS; a.k.a. TSKB RM, AO), d.125b shosse Varshavskoe, Moscow 117587, Russia; Pr. Krasnokazarmenniy, D. 14 A, Bldg. 19, Moscow, Russia; Web site www.ckbrm.nm.ru; alt. Web site http://ckbrm.ru; Email Address ckbrm@nm.ru; Executive Order 13662 Directive Determination—Subject to Directive 3; Registration ID 1077746102060; Tax ID No. 7722599844; Government Gazette Number 07550073; For more information on directives, please visit the following link: http://www.treasury.gov/resource-center/sanctions/Programs/Pages/ukraine.aspx#directives [UKRAINE-EO13662] (Linked To: ROSTEC).

14. JOINT-STOCK COMMERCIAL BANK NOVIKOMBANK (a.k.a. AKTSIONERNY KOMMERCHESKI BANK NOVIKOMBANK AKTSIONERNOE OBSHCHESTVO; f.k.a. AKTSIONERNY KOMMERCHESKI BANK NOVIKOMBANK ZAKRYTOE AKTSIONERNOE OBSHCHESTVO; a.k.a. JSCB NOVIKOMBANK; a.k.a. NOVIKOMBANK, AO AKB), building 2, 4/4 Yakimanskaya naberezhnaya, Moscow 119180, Russia; d. 4/4 korp., 2 nab., Yakimanskaya, Moscow 119180, Russia; 4/4 Yakimanskaya emb., bld 2, Moscow 119180, Russia; SWIFT/BIC CNOV RU MM; Web site http://www.novikom.ru; Email Address office@novikom.ru; BIK (RU) 044583162; Executive Order 13662 Directive Determination—Subject to Directive 3; Registration ID 1027739075891; Tax ID No. 7706196340; Government Gazette Number 17541272; All offices worldwide. For more information on directives, please visit the following link: http://www.treasury.gov/resource-center/sanctions/Programs/Pages/ukraine.aspx#directives [UKRAINE-EO13662] (Linked To: ROSTEC).

15. KONTSERN AVIAPRIBOROSTROENIE OAO (a.k.a. AIRCRAFT ENGINEERING CONCERN OPEN JOINT STOCK COMPANY; a.k.a. “OPEN JOINT-STOCK COMPANY KONTSERN AVIAPRIBOROSTROYENIYE”), Per. Aviatsionniy, D. 5, Moscow 125319, Russia; Web site http://www.oao-aps.ru; Executive Order 13662 Directive Determination—Subject to Directive 3; Tax ID No. 7704729515; For more information on directives, please visit the following link: http://www.treasury.gov/resource-center/sanctions/Programs/Pages/ukraine.aspx#directives [UKRAINE-EO13662] (Linked To: ROSTEC).

16. KONTSERN ORION OAO (a.k.a. OPEN JOINT-STOCK COMPANY KONTSERN ORION; a.k.a. ORION CONCERN OPEN JOINT STOCK COMPANY), Street Malaya Pirogovskaya, D. 18, Bldg. 1, Moscow 119435, Russia; Web site http://www.concern-orion.ru; Executive Order 13662 Directive Determination—Subject to Directive 3; Tax ID No. 7704731673; For more information on directives, please visit the following link: http://www.treasury.gov/resource-center/sanctions/Programs/Pages/ukraine.aspx#directives [UKRAINE-EO13662] (Linked To: ROSTEC).

17. KONTSERN SIRIUS OAO (a.k.a. CONCERN SIRIUS JOINT STOCK COMPANY; a.k.a. JSC SIRIUS), str. 1 18 Malaya Pirogovskaya ul., Moscow 119435, Russia; Web site http://con-sirius.ru; Executive Order 13662 Directive Determination—Subject to Directive 3; Registration ID 1097746424368; Tax ID No. 7704730655; Government Gazette Number 62668197; For more information on directives, please visit the following link: http://www.treasury.gov/resource-center/sanctions/Programs/Pages/ukraine.aspx#directives [UKRAINE-EO13662] (Linked To: ROSTEC).

18. MZ MAYAK OAO (a.k.a. MASHINOSTROITELNIY ZAVOD MAYAK; a.k.a. MAYAK MACHINE BUILDING PLANT OPEN JOINT STOCK COMPANY; a.k.a. OPEN JOINT-STOCK COMPANY MASHINOSTROITELNIY ZAVOD MAYAK), Street Ibragimova, D. 31, Moscow 105318, Russia; Web site http://www.mzmayak.ru; Executive Order 13662 Directive Determination—Subject to Directive 3; Tax ID No. 7719024042; For more information on directives, please visit the following link: http://www.treasury.gov/resource-center/sanctions/Programs/Pages/ukraine.aspx#directives [UKRAINE-EO13662] (Linked To: ROSTEC).

19. OBEDINENNAYA DVIGATELESTROITELNAYA KORPORATSIYA OAO (f.k.a. OTKRYTOE AKTSIONERNOE OBSHCHESTVO UPRAVLYAYUSHCHAYA KOMPANIYA OBEDINENNAYA DVIGATELESTROITELNAYA KORPORATSIYA; a.k.a. UNITED ENGINE CORPORATION JSC; a.k.a. “ODK OAO”), 16 Budennogo prospekt, Moscow 105118, Russia; Web site www.uk-odk.ru; Email Address info@uecrus.com; Executive Order 13662 Directive Determination—Subject to Directive 3; Registration ID 1107746081717; Tax ID No. 7731644035; Government Gazette Number 84023868; For more information on directives, please visit the following link: http://www.treasury.gov/resource-center/sanctions/Programs/Pages/ukraine.aspx#directives [UKRAINE-EO13662] (Linked To: ROSTEC).

20. OBIEDINENNAYA PROMYSHLENNAYA KORPORATSIYA OBORONPROM OAO (a.k.a. OPK OBORONPROM; a.k.a. OPK OBORONPROM OAO; f.k.a. OTKRYTOE AKTSIONERNOE OBSHCHESTVO OBEDINENNAYA PROMYSHLENNAYA KORPORATSIYA OBORONPROM; a.k.a. UNITED INDUSTRIAL CORPORATION OBORONPROM OJSC; a.k.a. UNITED INDUSTRIAL DEFENCE CORPORATION OBORONPROM), str. 141 29 Vereiskaya ul., Moscow 121357, Russia; Web site www.oboronprom.com; Email Address oboronprom@oboronprom.ru; Executive Order 13662 Directive Determination—Subject to Directive 3; Registration ID 1027718000221; Tax ID No. 7718218951; Government Gazette Number 59067382; For more information on directives, please visit the following link: http://www.treasury.gov/resource-center/sanctions/Programs/Pages/ukraine.aspx#directives [UKRAINE-EO13662] (Linked To: ROSTEC).

21. OBSCHESTVO S OGRANICHENNOI OTVETSTVENNOSTYU PROMINVEST (a.k.a. PROMINVEST LIMITED LIABILITY COMPANY; a.k.a. PROMINVEST, OOO), 2-4-6, str. 14 per. Bolshoi Savvinski, Moscow 119435, Russia; Executive Order 13662 Directive Determination—Subject to Directive 3; Registration ID 1027739228857; Tax ID No. 7705422452; Government Gazette Number 58127923; For more information on directives, please visit the following link: http://www.treasury.gov/resource-center/sanctions/Programs/Pages/ukraine.aspx#directives [UKRAINE-EO13662] (Linked To: ROSTEC).

22. OBSHCHESTVO S OGRANICHENNOI OTVETSTVENNOSTYU RT-ENERGOEFFEKTIVNOST (a.k.a. RT-ENERGO LLC; a.k.a. RT-ENERGO, OOO; a.k.a. RT-ENERGOEFFEKTIVNOST LIMITED LIABILITY COMPANY; a.k.a. RT-ENERGY EFFICIENCY LIMITED LIABILITY COMPANY), d. 1 A ul. Udaltsova, Moscow 119415, Russia; Executive Order 13662 Directive Determination—Subject to Directive 3; Registration ID 1107746755258; Tax ID No. 7729663922; Government Gazette Number 68072726; For more information on directives, please visit the following link: http://www.treasury.gov/resource-center/sanctions/Programs/Pages/ukraine.aspx#directives [UKRAINE-EO13662] (Linked To: ROSTEC).

23. OBSHCHESTVO S OGRANICHENNOI OTVETSTVENNOSTYU RT-INFORM (a.k.a. RT-INFORM; a.k.a. RT-INFORM LIMITED LIABILITY COMPANY; a.k.a. RT-INFORM, OOO), d. 1 pomeshchenie 1000 ul. Universitetskayap, Innopolis, Verkhneuslonski Raion, Tatarstan resp. 420500, Russia; Web site http://www.rtinform.ru; Executive Order 13662 Directive Determination—Subject to Directive 3; Registration ID 1127746501190; Tax ID No. 7704810710; Government Gazette Number 09911571; For more information on directives, please visit the following link: http://www.treasury.gov/resource-center/sanctions/Programs/Pages/ukraine.aspx#directives [UKRAINE-EO13662] (Linked To: ROSTEC).

24. OTKRYTOE AKTSIONERNOE OBSHCHESTVO KALINOVSKI KHIMICHESKI ZAVOD (f.k.a. AKTSIONERNOE OBSHCHESTVO OTKRYTOGO TIPA KALINOVSKI KHIMICHEKI ZAVOD; a.k.a. KALINOVO CHEMICAL PLANT OPEN JOINT STOCK COMPANY; a.k.a. OPEN JOINT-STOCK COMPANY KALINOVSKIY KHIMICHESKIY ZAVOD; a.k.a. “KKHZ, OAO”), d. 8 ul. Lenina P Kalinovo, Nevyanski Raion, Sverdlovskaya obl. 624186, Russia; Web site http://www.kcplant.ru/; Email Address kcp@uraltc.ru; Executive Order 13662 Directive Determination—Subject to Directive 3; Registration ID 1026601326597; Tax ID No. 6621001262; Government Gazette Number 07511005; For more information on directives, please visit the following link: http://www.treasury.gov/resource-center/sanctions/Programs/Pages/ukraine.aspx#directives [UKRAINE-EO13662] (Linked To: ROSTEC).

25. OTKRYTOE AKTSIONERNOE OBSHCHESTVO KONTSERN AVIATSIONNOE OBORUDOVANIE (a.k.a. AVIATION EQUIPMENT CONCERN OPEN JOINT STOCK COMPANY; a.k.a. AVIATION EQUIPMENT HOLDING; a.k.a. JOINT STOCK COMPANY CONCERN OF AVIATION EQUIPMENT; a.k.a. KONTSERN AVIATSIONNOE OBORUDOVANIE, OAO), 29, korp.31 ul. Ibragimova, Moscow 105318, Russia; 29/31 Ibragimova Street, Moscow 105318, Russia; Web site www.avia-equipment.ru; Email Address mailbox@avia-equipment.ru; Executive Order 13662 Directive Determination—Subject to Directive 3; Registration ID 1097746108250; Tax ID No. 7704722326; Government Gazette Number 60427973; For more information on directives, please visit the following link: http://www.treasury.gov/resource-center/sanctions/Programs/Pages/ukraine.aspx#directives [UKRAINE-EO13662] (Linked To: ROSTEC).

26. OTKRYTOE AKTSIONERNOE OBSHCHESTVO NAUCHNO-PROIZVODSTVENNOE OBEDINENIE SPLAV (a.k.a. NPO SPLAV, OAO; a.k.a. OPEN JOINT-STOCK COMPANY NAUCHNO-PROIZVODSTVENNOYE OBYEDINENIYE SPLAV; a.k.a. OPEN JOINT-STOCK COMPANY SPLAV STATE AND RESEARCH PRODUCTION ASSOCIATION; a.k.a. SPLAV SCIENTIFIC PRODUCTION ASSOCIATION OPEN JOINT STOCK COMPANY), d. 33 ul. Shcheglovskaya Zaseka, Tula, Tulskaya obl. 300004, Russia; Web site http://splav.org; Executive Order 13662 Directive Determination—Subject to Directive 3; Registration ID 1127154020311; Tax ID No. 7105515987; Government Gazette Number 07504301; For more information on directives, please visit the following link: http://www.treasury.gov/resource-center/sanctions/Programs/Pages/ukraine.aspx#directives [UKRAINE-EO13662] (Linked To: ROSTEC).

27. OTKRYTOE AKTSIONERNOE OBSHCHESTVO NOVOSIBIRSKOE PROIZVODSTVENNOE OBEDINENIE LUCH (f.k.a. FEDERALNOE GOSUDARSTVENNOE UNITARNOE PREDPRIYATIE NOVOSIBIRSKOE PROIZVODSTVENNOE OB EDINENIE LUCH; a.k.a. JOINT STOCK COMPANY NOVOSIBIRSK PRODUCTION AMALGAMATION LUCH; a.k.a. NPO LUCH, OAO), 32 ul. Stantsionnaya, Novosibirsk, Novosibirskaya obl. 630108, Russia; Email Address it@luch-nsk.ru; Executive Order 13662 Directive Determination—Subject to Directive 3; Registration ID 1115476080610; Tax ID No. 5404441240; Government Gazette Number 07517605; For more information on directives, please visit the following link: http://www.treasury.gov/resource-center/sanctions/Programs/Pages/ukraine.aspx#directives [UKRAINE-EO13662] (Linked To: ROSTEC).

28. OTKRYTOE AKTSIONERNOE OBSHCHESTVO NOVO-VYATKA (a.k.a. NOVO VYATKA OPEN JOINT STOCK COMPANY; a.k.a. NOVO-VYATKA, OAO; a.k.a. OPEN JOINT STOCK COMPANY NOVO-VYATKA), d. 51 korp. 2 ul. Sovetskaya, Kirov, Kirovskaya obl. 610008, Russia; Street Sovetskaya, d. 51, Bldg. 2, Kirov 61008, Russia; Web site http://www.nmz.ru; Email Address nmz@nmz.kirov.ru; Executive Order 13662 Directive Determination—Subject to Directive 3; Registration ID 1034316578680; Tax ID No. 4345029946; Government Gazette Number 49616818; For more information on directives, please visit the following link: http://www.treasury.gov/resource-center/sanctions/Programs/Pages/ukraine.aspx#directives [UKRAINE-EO13662] (Linked To: ROSTEC).

29. OTKRYTOE AKTSIONERNOE OBSHCHESTVO NOVOVYATSKI MEKHANICHESKI ZAVOD (a.k.a. NOVOVYATSKI MEKHANICHESKI ZAVOD OAO; a.k.a. OPEN JOINT STOCK COMPANY NOVOVYATSK MECHANICAL PLANT; a.k.a. OPEN JOINT-STOCK COMPANY NOVOVYATSKIY MEKHANICHESKIY ZAVOD; f.k.a. “NMZ OAO”; a.k.a. “NMZ OJSC”), d. 51 ul. Sovetskaya, Kirov, Kirovskaya obl. 610008, Russia; Email Address nmz@nmz.kirov.ru; Executive Order 13662 Directive Determination—Subject to Directive 3; Registration ID 1034316578702; Tax ID No. 4345029953; Government Gazette Number 07501403; For more information on directives, please visit the following link: http://www.treasury.gov/resource-center/sanctions/Programs/Pages/ukraine.aspx#directives [UKRAINE-EO13662] (Linked To: ROSTEC).

30. OTKRYTOE AKTSIONERNOE OBSHCHESTVO NPO VYSOKOTOCHNYE KOMPLEKSY (a.k.a. HIGH PRECISION WEAPONS SCIENTIFIC PRODUCTION ASSOCIATION OPEN JOINT STOCK COMPANY; a.k.a. HIGH-PRECISION WEAPONS JOINT STOCK COMPANY; a.k.a. JSC NPO HIGH-PRECISION COMPLEXES; a.k.a. JSC NPO VYSOKOTOCHNYE KOMPLEKSY; a.k.a. NPO HIGH PRECISION WEAPONS OJSC; a.k.a. NPO VYSOKOTOCHNYE KOMPLEKSY; a.k.a. NPO VYSOKOTOCHNYE KOMPLEKSY, OAO; a.k.a. OAO WYSOKOTOSCHNYE KOMPLETKSI; a.k.a. OAO WYSOKOTOTSCHNYE KOMPLEKSI; a.k.a. “HIGH PRECISION SYSTEMS”; a.k.a. “VYSOKOTOCHNYE KOMPLEKSY”; a.k.a. “VYSOKOTOCHNYE KOMPLEKSY”), 21, Gogolevski blvd., Moscow 119991, Russia; 21 str., 1 bul. Gogolevski, Moscow 119991, Russia; Email Address info@rostec.ru; Executive Order 13662 Directive Determination—Subject to Directive 3; Registration ID 1097746068012; Tax ID No. 7704721192; Government Gazette Number 60390527; For more information on directives, please visit the following link: http://www.treasury.gov/resource-center/sanctions/Programs/Pages/ukraine.aspx#directives [UKRAINE-EO13662] (Linked To: ROSTEC).

31. OTKRYTOE AKTSIONERNOE OBSHCHESTVO RT-STANKOINSTRUMENT (a.k.a. OJSC STANKOINSTRUMENT; a.k.a. OPEN JOINT STOCK COMPANY RT-STANKOINSTRUMENT; a.k.a. RT-STANKOINSTRUMENT; a.k.a. RT-STANKOINSTRUMENT, OAO), d. 65 str. 1 ul. Gilyarovskogo, Moscow 107996, Russia; Web site http://www.rt-stanko.ru/; Email Address n.dobrynina@rt-stanko.ru; Executive Order 13662 Directive Determination—Subject to Directive 3; Registration ID 1097746559020; Tax ID No. 7702715348; Government Gazette Number 62826319; For more information on directives, please visit the following link: http://www.treasury.gov/resource-center/sanctions/Programs/Pages/ukraine.aspx#directives. [UKRAINE-EO13662] (Linked To: ROSTEC).

32. OTKRYTOE AKTSIONERNOE OBSHCHESTVO TEKHNOLOGII BEZOPASNOSTI (a.k.a. JOINT STOCK COMPANY SECURITY TECHNOLOGIES; a.k.a. TEKHNOLOGII BEZOPASNOSTI, OAO; a.k.a. “SECURITY TECHNOLOGIES”), d. 24 ul. Usacheva, Moscow 119048, Russia; Executive Order 13662 Directive Determination—Subject to Directive 3; Registration ID 1137746355405; Tax ID No. 7704833788; Government Gazette Number 17434335; For more information on directives, please visit the following link: http://www.treasury.gov/resource-center/sanctions/Programs/Pages/ukraine.aspx#directives [UKRAINE-EO13662] (Linked To: ROSTEC).

33. OTKRYTOE AKTSIONERNOE OBSHCHESTVO VNESHNEEKONOMICHESKOE OBEDINENIE STANKOIMPORT (a.k.a. OPEN JOINT-STOCK COMPANY FOREIGN TRADE ENTERPRISE STANKOIMPORT; a.k.a. STANKOIMPORT FOREIGN TRADE ASSOCIATION OPEN JOINT STOCK COMPANY; a.k.a. VO STANKOIMPORT OJSC; a.k.a. VO STANKOIMPORT, OAO), d. 34/63 ul. Obrucheva, Moscow 117342, Russia; Web site www.vostankoimport.ru; Email Address info@stankoimport.ru; Executive Order 13662 Directive Determination—Subject to Directive 3; Registration ID 1047728029051; Tax ID No. 7728309982; Government Gazette Number 00225271; For more information on directives, please visit the following link: http://www.treasury.gov/resource-center/sanctions/Programs/Pages/ukraine.aspx#directives [UKRAINE-EO13662] (Linked To: ROSTEC).

34. OTKRYTOE AKTSIONERNOE OBSHCHESTVO VNESHNEEKONOMICHESKOE OBEDINENIE TEKHNOPROMEKSPORT (a.k.a. JOINT STOCK COMPANY FOREIGN ECONOMIC ASSOCIATION TECHNOPROMEXPORT; a.k.a. OJSC TECHNOPROMEXPORT; a.k.a. TECHNOPROMEXPORT FOREIGN ECONOMIC ASSOCIATION OPEN JOINT STOCK COMPANY; a.k.a. TECHNOPROMEXPORT OJSC; a.k.a. VO TEKHNOPROMEKSPORT, OAO; a.k.a. “JSC TPE”), d. 15 str. 2 ul. Novy Arbat, Moscow 119019, Russia; Web site http://www.tpe.ru; Email Address inform@tpe.ru; Executive Order 13662 Directive Determination—Subject to Directive 3; Registration ID 1067746244026; Tax ID No. 7705713236; Government Gazette Number 02839043; For more information on directives, please visit the following link: http://www.treasury.gov/resource-center/sanctions/Programs/Pages/ukraine.aspx#directives. [UKRAINE-EO13662] (Linked To: ROSTEC).

35. ROSOBORONEKSPORT OAO (a.k.a. OJSC ROSOBORONEXPORT; a.k.a. ROSOBORONEKSPORT OJSC; a.k.a. ROSOBORONEXPORT; a.k.a. ROSOBORONEXPORT JSC; a.k.a. RUSSIAN DEFENSE EXPORT ROSOBORONEXPORT), 27 Stromynka ul., Moscow 107076, Russia; Web site www.roe.ru; Executive Order 13662 Directive Determination—Subject to Directive 3; Registration ID 1117746521452; Tax ID No. 7718852163; Government Gazette Number 56467052; For more information on directives, please visit the following link: http://www.treasury.gov/resource-center/sanctions/Programs/Pages/ukraine.aspx#directives [UKRAINE-EO13662] (Linked To: ROSTEC).

36. ROSSISKAYA ELEKTRONIKA OAO (a.k.a. JSC RUSELECTRONICS; a.k.a. ROSELEKTRONIKA OAO; a.k.a. RUSELECTRONICS; a.k.a. RUSELECTRONICS JSC; a.k.a. RUSELEKTRONICS; a.k.a. RUSSIAN ELECTRONICS OPEN JOINT STOCK COMPANY; a.k.a. “RUSSIAN ELECTRONICS”), 12 Kosmonavta Volkova ul., Moscow 127299, Russia; Web site www.ruselectronics.ru; alt. Web site www.roselgroup.com; Email Address info@ruselectronics.ru; Executive Order 13662 Directive Determination—Subject to Directive 3; Registration ID 1027739000475; Tax ID No. 7710277994; Government Gazette Number 48532918; For more information on directives, please visit the following link: http://www.treasury.gov/resource-center/sanctions/Programs/Pages/ukraine.aspx#directives [UKRAINE-EO13662] (Linked To: ROSTEC).

37. RT—GLOBALNYE RESURSY OOO (a.k.a. RT—GLOBAL RESOURCES LIMITED LIABILITY COMPANY; a.k.a. RT GLOBAL RESOURCES; a.k.a. “R-T GR OOO”), str. 2 2 Paveletskaya pl., Moscow 115054, Russia; Email Address info@rtgr.ru; Executive Order 13662 Directive Determination—Subject to Directive 3; Registration ID 1137746198930; Tax ID No. 7708784387; Government Gazette Number 17259280; For more information on directives, please visit the following link: http://www.treasury.gov/resource-center/sanctions/Programs/Pages/ukraine.aspx#directives. [UKRAINE-EO13662] (Linked To: ROSTEC).

38. RT-METALLURGIYA OAO (a.k.a. OPEN JOINT-STOCK COMPANY RT-METALLURGIYA; a.k.a. RT-METALLURGY OPEN JOINT STOCK COMPANY), Per. Skatertniy, D. 18, Moscow 121069, Russia; Executive Order 13662 Directive Determination—Subject to Directive 3; Tax ID No. 7703697388; For more information on directives, please visit the following link: http://www.treasury.gov/resource-center/sanctions/Programs/Pages/ukraine.aspx#directives [UKRAINE-EO13662] (Linked To: ROSTEC).

39. ULYANOVSKI GIPROAVIAPROM OAO (a.k.a. OPEN JOINT-STOCK COMPANY ULYANOVSKIY GOSUDARSTVENNIY PROYEKTNO-KONSTRUKTORSKIY INSTITUT AVIATSIONNOY PROMYSHLENNOSTI; a.k.a. ULYANOVSK STATE DESIGN AND ENGINEERING INSTITUTE FOR AVIATION INDUSTRY OPEN JOINT STOCK COMPANY; a.k.a. ULYANOVSKIY GIPROAVIAPROM OJSC), Street Vracha Mikhaylova, D. 34, Ulyanovsk 432010, Russia; Web site http://www.ulgap.ru; Executive Order 13662 Directive Determination—Subject to Directive 3; Tax ID No. 7328046337; For more information on directives, please visit the following link: http://www.treasury.gov/resource-center/sanctions/Programs/Pages/ukraine.aspx#directives [UKRAINE-EO13662] (Linked To: ROSTEC).

40. UNITED INSTRUMENT MANUFACTURING CORPORATION (a.k.a. JSC-UNITED-INSTRUMENT-MANUFACTURING-CORPORATION; a.k.a. “UIMC”), Vereiskaya 29, str. 141, Moscow 121357, Russia; 29/141 Verejskaya Street, Moscow 121357, Russia; Web site http://www.opkrt.ru; Email Address info@opkrt.ru; Executive Order 13662 Directive Determination—Subject to Directive 3; For more information on directives, please visit the following link: http://www.treasury.gov/resource-center/sanctions/Programs/Pages/ukraine.aspx#directives [UKRAINE-EO13662] (Linked To: ROSTEC).

41. VERTOLETY ROSSII AO (a.k.a. OPEN JOINT STOCK COMPANY RUSSIAN HELICOPTERS; a.k.a. RUSSIAN HELICOPTERS JOINT STOCK COMPANY; a.k.a. VERTOLETY ROSSII), 12 Krasnopresnenskaya naberezhnaya, Moscow 123610, Russia; Entrance 9, 12, Krasnopresnenskaya emb., Moscow 123610, Russia; podezd 9, etazh 21 12 Krasnopresnenskaya nab., Moscow 123610, Russia; Web site www.russianhelicopters.aero; Email Address info@rus-helicopters.com; Executive Order 13662 Directive Determination—Subject to Directive 3; Registration ID 1077746003334; Tax ID No. 7731559044; Government Gazette Number 98927243; For more information on directives, please visit the following link: http://www.treasury.gov/resource-center/sanctions/Programs/Pages/ukraine.aspx#directives [UKRAINE-EO13662] (Linked To: ROSTEC).

As entities owned, directly or indirectly, 50 percent or more by Rostec, these entities are subject to the same prohibitions as Rostec.

Dated: December 22, 2015.
John E. Smith,
Acting Director, Office of Foreign Assets Control.

Editorial Note: The Office of the Federal Register received this document on September 30, 2016.

[FR Doc. 2016-24043 Filed 10-4-16; 8:45 am]

BILLING CODE 4810-AL-P